SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 15, 2009.

ADDRESSES: Send all comments regarding whether this information collection is necessary for the proper performance of the function of the agency, whether the burden estimates are accurate, and if there are ways to minimize the estimated burden and enhance the quality of the collection, to Carl Jordan, Program Analyst, Office of Size Standards, Small Business Administration, 409 3rd Street, 8th Floor, Washington, DC 20416.

FOR FURTHER INFORMATION CONTACT: Carl Jordan, Program Analyst, Office of Size Standards, 202-205-6093, carl.jordan@sba.gov; Curtis B. Rich, Management Analyst, 202-205-7030, curtis.rich@sba.gov.

SUPPLEMENTARY INFORMATION: This form is SBA's basic tool to determine the size of a business. Small businesses complete this form when applying for certain types of SBA assistance or when their size self-certification has been challenged.

Title: “Application for Small Business Size Determination”.

Description of Respondents: Small businesses.

Form Number: 355.

Annual Responses: 600.

Annual Burden: 2,400.

Jacqueline White,
Chief, Administrative Information Branch.

[FR Doc. E9-8634 Filed 4-15-09; 8:45 am]

BILLING CODE 8025-01-P